DEPARTMENT OF LABOR

Employment and Training Administration

Notice of Random Assignment Study To Evaluate the YouthBuild Program; Request for Comment

AGENCY: Employment and Training Administration (ETA), Labor.

ACTION: Notice.

SUMMARY: The Department of Labor (DOL or the Department) is prepared to conduct an evaluation to provide rigorous estimates of the net impacts of services and training provided by YouthBuild program sites funded by the Department and by the Corporation for National and Community Service (CNCS or the Corporation). The Department has determined that it is in the public interest to use a random assignment impact methodology for the study. In the DOL-funded and CNCS-funded sites randomly selected to participate in this evaluation, all applicants for services and training under the YouthBuild program during a 12-18 month enrollment period will be required to participate in the study in order to be considered for services or training. Due to the random assignment methodology of the study, some eligible applicants will be enrolled in the study but will not be able to enroll in the YouthBuild program for 24 months after their enrollment in the study. At that time, those youth randomly assigned to the control group can re-apply to the YouthBuild program. The Department is soliciting comments concerning the Department's plan to carry out the study.

DATES: Written comments on the plan to require consent to participate in the study during the designated YouthBuild sites' study enrollment periods must be received by the office listed in the addresses section below on or before August 31, 2011.

ADDRESSES: You may submit comments by any one of the following methods:

• Mail or Hand Delivery/Courier: Please submit all written comments (including disk and CD-ROM submissions) to Eileen Pederson, U.S. Department of Labor, Employment and Training Administration, Office of Policy Development and Research, 200 Constitution Avenue, NW., Frances Perkins Bldg., Room N-5641, Washington, DC 20210. Commenters are advised that mail delivery in the Washington area may be delayed due to security concerns. Hand-delivered comments will be received at the above address. All overnight mail will be considered to be hand-delivered and must be received at the designated place by the date specified above.

• Facsimile: Please send comments to Eileen Pederson's attention, at fax number (202) 693-2766.

• E-mail: Please send comments to pederson.eileen@dol.gov.

Please submit your comments by only one method. The Department will not review comments received by means other than those listed above or that are received after the comment period has closed.

Comments: All comments on this notice will be retained by the Department and released upon request via email to any member of the public. The Department also will make all the comments it received available for public inspection by appointment during normal business hours at the above address. If you need assistance to review the comments, the Department will provide you with appropriate aids such as readers or print magnifiers. The Department will make copies of this notice available, upon request, in large print, Braille and electronic file on computer disk. The Department will consider providing the notice in other formats upon request. To schedule an appointment to review the comments and/or obtain the notice in an alternative format, contact the Office of Policy Development and Research at (202) 693-3700 (this is not a toll-free number). You may also contact this office at the address listed above.

The Department will retain all comments received without making any changes to the comments, including any personal information provided. If requested, the comments will be released to the public. The Department cautions commenters not to include their personal information such as Social Security Numbers, personal addresses, telephone numbers, and e-mail addresses in their comments as such submitted information will be released with the comment if the comments are requested. It is the commenter's responsibility to safeguard his or her information. If the comment is submitted by e-mail, the e-mail addresses of the commenter will not be released.

FOR FURTHER INFORMATION CONTACT: Eileen Pederson, U.S. Department of Labor, Employment and Training Administration, Office of Policy Development and Research, 200 Constitution Avenue, NW., Room N-5641, Washington, DC 20210. Telephone number: (202) 693-3647 (this is not a toll-free number). Individuals with hearing or speech impairments may access the telephone number above via TTY by calling the toll-free Federal Information Relay Service at 1-877-889-5627 (TTY/TDD).

I. Background

YouthBuild is a youth and community development program that addresses several core issues facing low-income communities: youth education, employment, homelessness and affordable housing. The program primarily serves high school dropouts and focuses on helping them attain a high school diploma or general educational development (GED) certificate and teaching them construction skills and other occupational skills geared toward career or post-secondary education placement. YouthBuild seeks to incorporate widely-recognized youth development principles while training youth to give back to their communities by expanding the supply of affordable housing, albeit on a small scale.

YouthBuild programs are operated by a diverse group of organizations, including community-based organizations, faith-based organizations, local government agencies, and educational institutions. These programs vary widely in how they fund services and the emphasis they place on various components of the program. Nearly 50 of the programs nationwide receive funding from the Corporation for National and Community Service (CNCS or the Corporation). These sites may place more emphasis on community service components of the program. Services and training provided by YouthBuild programs include educational activities, occupational/vocational training, personal development, leadership training, community service and a wide range of related, supportive services. Additional services also include staff assessments, counseling, and job placement assistance following completion of the program.

The recent recession, high unemployment rate and limited Federal resources serve as a reminder of the importance of ensuring that services and training provided to those who are just entering the workforce will enable them to succeed and that the programs which provide those services and training are as effective as possible. In order to improve the management and effectiveness of Workforce Investment Act (WIA) services and related activities, including YouthBuild programs, section 172 of the WIA requires the Department to continually evaluate WIA-funded programs and activities. These evaluations must “utilize appropriate methodology and research designs, including the use of control groups chosen by scientific random assignment methodologies.” Congress, the Office of Management and Budget, and the Government Accountability Office have called on DOL to conduct rigorous evaluations in order to learn if WIA-funded services and training, including those specifically for youth, are as effective as they can be. Accordingly, ETA is conducting a multisite control group evaluation to provide rigorous estimates of the net impact of services provided by YouthBuild programs funded by the Department and the Corporation. This evaluation will offer policymakers, program administrators, service providers, future applicants, and the public information about the relative effectiveness of YouthBuild programs, how the effectiveness varies by target population, and how the services are implemented. The study will also produce estimates of the benefits and costs of these services. Compared to peers who remain in school, high school dropouts are more likely to be disconnected from school and work, be incarcerated, be unmarried, and have children outside of marriage. Thus, the evaluation represents an important opportunity to add to the growing body of knowledge about the impacts of “second chance” programs for youth who have dropped out of high school.

The complete experimental design impact evaluation of the YouthBuild program will take seven years, including a follow-up period that extends for four years after the last applicant is enrolled in the study and additional time for analyzing and reporting the results. The evaluation is funded by both the Department and the Corporation. It will measure core program outcomes including educational attainment, postsecondary planning, employment, earnings, personal development, delinquency and involvement with the criminal justice system. Random assignment will be conducted in approximately 60 randomly-selected DOL-funded sites and 17 randomly-selected CNCS-funded sites. Youth in those sites who are eligible for YouthBuild services will be randomly assigned to one of two groups: the program group, which can receive all YouthBuild services, and the control group, which cannot receive YouthBuild services for a 24 months after enrollment but can receive services from other organizations in their communities. In the participating YouthBuild sites, all eligible applicants for YouthBuild services will be asked to participate in the study during the 12-18 month study enrollment period. They will be informed of the evaluation, provided an opportunity to ask questions or seek clarification of their role and responsibilities should they agree to participate, and then asked to give their consent to participate. Applicants who do not consent to participate in the study will not be allowed to enroll in YouthBuild or receive services or training funded by the YouthBuild program. As will be the case for those in the control group, those who do not consent to participate in the study can receive training services from other organizations in their communities. The Department expects a total of about 4,600 YouthBuild program applicants to be randomly assigned to one of the two groups under the evaluation.

The Department has determined that it is in the public interest to use a random assignment impact methodology because random assignment is generally viewed as the best and most feasible design for credibly and reliably answering questions about the effectiveness of social programs and policy interventions. More than any other approach, random assignment minimizes the chance that any observed differences in outcomes between research groups are due to unmeasured, preexisting differences between members of the groups. When implemented carefully, random assignment creates groups that are almost identical in their characteristics before the intervention, differing only in whether they are exposed to the intervention. As a result, differences in average outcomes between the groups can be causally attributed to the intervention.

The Department recognizes that this design will assign some applicants to the control group, which will not have access to YouthBuild services. However, those who are assigned to the control group will be eligible for other services in their communities and also eligible to reapply for YouthBuild services 24 months after enrollment into the study.

To protect the rights and welfare of YouthBuild applicants who agree to participate in the evaluation, the evaluation team, lead by researchers from MDRC submitted the YouthBuild evaluation design to MDRC's Institutional Review Board (IRB) for concurrence. An IRB is a committee specifically responsible for protecting the rights and welfare of humans involved in biomedical and behavioral research. On May 3, 2011, MDRC's IRB determined this study to be of no more than minimal risk and approved it.

II. Desired Focus of Comments

Currently, DOL is soliciting comments concerning the Department's intent to carry out the random assignment study described above: for the limited enrollment period, applicants for YouthBuild services and training would be required to consent to participate in the study, where they would be randomly assigned to one of the two research groups. Applicants who do not consent to participate would be ineligible to receive YouthBuild services and training. This requirement would apply only to applicants in the limited number of YouthBuild program sites selected to participate in this evaluation.

The Department seeks comments focused on whether there is a methodology that would yield as credible and reliable an evaluation of the YouthBuild program as random assignment, but avoids adverse affect on the study participants. The Department also welcomes comments that suggest ways to more effectively minimize any adverse impact on the study participants who participate in the study described above.

III. Current Actions

Following receipt of comments in response to this request, ETA will adjust, as appropriate, the approach for temporarily requiring applicants for YouthBuild services and training at select DOL-funded and CNCS-funded sites to participate in random assignment. Comments submitted in response to this request will also become a matter of public record.

Signed at Washington, DC, this 12th day of August, 2011.
Jane Oates,
Assistant Secretary, Employment and Training Administration.

[FR Doc. 2011-20971 Filed 8-16-11; 8:45 am]

BILLING CODE 4510-FN-P